Title 3—

The President

Proclamation 9411 of March 31, 2016

National Cancer Control Month, 2016

By the President of the United States of America

A Proclamation

Undaunted by challenge and unceasing in pursuit of progress, our Nation has pushed the boundaries of possibility throughout our history. Today, while cancer remains among the leading causes of death around the world and the second leading cause of death here at home, cancer research is on the cusp of major breakthroughs, offering incredible promise to those suffering from this disease. This month, we remember the loved ones we have lost, pledge support for the families we can still save, and reaffirm our commitment to curing cancer once and for all.

Cancer can affect people of all ages, races, and backgrounds, but certain risk factors exist that can often be mitigated. Limiting alcohol consumption, controlling sun exposure, exercising, getting recommended cancer screenings, and maintaining a healthy diet are all ways to reduce your risk of getting cancer. Additionally, smoking remains one of the top causes of cancer, responsible for 1 in 3 cancer deaths in the United States. By promoting resources to help people quit smoking and limiting exposure to secondhand smoke, we can reduce individuals' cancer risks. Help for quitting smoking can be found at www.SmokeFree.gov or by calling 1-800-QUIT-NOW. I urge all Americans to visit www.Cancer.gov or www.CDC.gov/Cancer to learn more.

My Administration is committed to reaching a future free from cancer in all its forms. Earlier this year, I created the White House Cancer Moonshot Task Force. Chaired by Vice President Joe Biden, this effort aims to accelerate our progress toward prevention, treatment, and cures by putting ourselves on a path to achieving at least a decade's worth of advances in 5 years. Together with patients, philanthropies, private industry, and the medical and scientific communities, the United States can be the country that finally finds a cure for this disease, and we have already proposed a $1 billion initiative to jumpstart this critical work. The Affordable Care Act continues to help people with cancer and at risk for cancer by prohibiting insurers from denying coverage to anyone based on a preexisting condition and requiring insurers to cover recommended preventive benefits without cost-sharing. And the Precision Medicine Initiative that I launched last year continues to work toward a new era of medicine that offers targeted treatment at the right time to individual patients by accounting for their unique genes, health histories, and other personal factors.

Our Nation has made extraordinary strides in the fight against cancer, but much work remains to be done. With more than one and a half million new cases of cancer expected in the United States this year, we owe it to everyone currently living with it and to anyone at risk to support all those working to defeat it. During National Cancer Control Month, let us remember those who lost their battle with cancer, and let us renew our efforts to save lives and spare heartbreak by reaching a future without this devastating disease.

The Congress of the United States, by joint resolution approved March 28, 1938 (52 Stat. 148; 36 U.S.C. 103), as amended, has requested the President to issue an annual proclamation declaring April as “Cancer Control Month.”

NOW, THEREFORE, I, BARACK OBAMA, President of the United States of America, do hereby proclaim April 2016 as National Cancer Control Month. I encourage citizens, government agencies, private businesses, nonprofit organizations, and other interested groups to join in activities that will increase awareness of what Americans can do to prevent and control cancer.

IN WITNESS WHEREOF, I have hereunto set my hand this thirty-first day of March, in the year of our Lord two thousand sixteen, and of the Independence of the United States of America the two hundred and fortieth.

[FR Doc. 2016-07955

Filed 4-4-16; 11:15 am]

Billing code 3295-F6-P